DEPARTMENT OF HEALTH AND HUMAN SERVICES

Centers for Medicare & Medicaid Services

[Document Identifiers CMS-10789]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by October 24, 2022.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, you may make your request using one of following:

1. Access CMS' website address at website address at https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10789 Customer Satisfaction Survey for Enterprise Portal Services (EPS) Users

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: New Collection (Request for a new OMB control number); Title of Information Collection: Customer Satisfaction Survey for Enterprise Portal Services (EPS) Users; Use: This EPS customer satisfaction survey will support EADG's goal of promoting improvements in the quality of EPS for all end-users and business owners. The collection of this information is necessary to enable EADG to obtain feedback in an efficient, timely manner, in accordance to our commitment to improving the quality and usability of our system. It will also allow for ongoing, collaborative, and actionable communications between EADG and all customers, stakeholders, and end-users.

The goal of this Generic clearance and its survey is to capture feedback from actual users of the system immediately after they finish using the system, while their user experience, negative or positive, is still fresh in their minds. This user feedback will allow our team to discover areas of improvement within EPS. It will help us improve the user experience, provide better service/support, improve marketing strategies, and identify gaps/issues that require resolution. For example, if we get several responses through the collection instrument stating that users feel that the EPS system is slow, we can use that feedback to invest efforts into increasing the EPS response times. As the feedback is analyzed and implemented over time, the survey questions will evolve to support implemented changes, providing the EPS team with the most up-to-date feedback on system improvement.

By using a Generic Instrument Collection, the survey will evolve over time. Within the CMS EPS, features are frequently added, and sometimes even removed. The team needs to be able to add new survey questions, specific to those new features, in order to capture valuable feedback on the effectiveness, ease-of-use, pain points, and areas of improvement for the 2 feature. When features are removed from the CMS EPS, questions relevant to those features must be modified or removed from the survey as well. In general, given that the CMS EPS is a dynamic system, designed to meet enterprise needs that change over time, a Generic Instrument Collection will allow the survey to evolve as the system evolves, and remain relevant, capturing up-to-date feedback on the system. Form Number: CMS-10789 (OMB control number: 0938-New); Frequency: Quarter; Affected Public: Individuals and Households, Private Sector (Business or other for-profits, Not-for-Profit Institutions); Number of Respondents: 300,000; Total Annual Responses: 360,000; Total Annual Hours: 90,000. (For policy questions regarding this collection contact Corey L. Redden at 410-279-5152.)

Dated: August 18, 2022.
William N. Parham, III,
Director, Paperwork Reduction Staff, Office of Strategic Operations and Regulatory Affairs.

[FR Doc. 2022-18190 Filed 8-23-22; 8:45 am]

BILLING CODE 4120-01-P